DEPARTMENT OF LABOR

Employment and Training Administration

[TA-W-60,353]

Rice Mills, Incorporated; Belton, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 16, 2006, applicable to workers of Rice Mills, Incorporated, Belton, South Carolina. The notice was published in the Federal Register on November 28, 2006 (71 FR 68840).

At the request of the State agency, the Department reviewed the certification for workers of the subject firm. The workers are engaged in the production of kid's and adults' sleepwear.

New findings show that there was a previous certification, TA-W-54,637, issued on May 4, 2004, covering the identical worker group as the subject firm, who were engaged in employment related to the production of kid's and adults' sleepwear. That certification expired on May 4, 2006. To avoid an overlap in worker group coverage, the certification is being amended to change the impact date from October 23, 2005 to May 5, 2006, for workers of the subject firm.

The amended notice applicable to TA-W-60,353 is hereby issued as follows:

“All workers of Rice Mills, Incorporated, Belton, South Carolina, who became totally or partially separated from employment on or after May 5, 2006, through November 16, 2008, are eligible to apply for adjustment assistance under Section 223 of the Trade Act of 1974 and are also eligible to apply for alternative trade adjustment assistance under Section 246 of the Trade Act of 1974.”

Signed at Washington, DC this 21st day of December 2006.
Linda G. Poole,
Certifying Officer, Division of Trade Adjustment Assistance.

[FR Doc. E7-141 Filed 1-9-07; 8:45 am]

BILLING CODE 4510-30-P